DEPARTMENT OF THE INTERIOR

Bureau of Land Management

[LLWY9210000, L14300000.ET0000, WYW4471D]

Notice of Correction for Public Land Order No. 7261; Modification and Partial Revocation of 12 Executive Orders and 7 Secretarial Orders; Wyoming

AGENCY: Bureau of Land Management, Interior.

ACTION: Notice of Correction.

SUMMARY: This notice corrects the legal land description published in the Federal Register on May 21, 1997 (62 FR 27773) for the Department of the Interior, Bureau of Land Management, Public Land Order No. 7261 for public water reserves, Wyoming.

Correction

On page 27773 in the third column, line 38, correct the legal description to read: sec. 18, SW1/4SE1/4.

FOR FURTHER INFORMATION CONTACT: Jennifer Whyte, Realty Specialist, Bureau of Land Management, 5353 Yellowstone Road, Cheyenne, Wyoming 82009, 307-775-6232 or via email at jwhyte@blm.gov.

Dated: December 29, 2011.
Brenda V. Neuman
Acting State Director, Wyoming.

[FR Doc. 2012-2169 Filed 1-31-12; 8:45 am]

BILLING CODE 4310-22-P